DEPARTMENT OF THE INTERIOR

Bureau of Land Management

[CA-350-1610-DQ]

Notice of Availability of Proposed Resource Management Plans and Associated Final Environmental Impact Statements for Three Bureau of Land Management Field Offices in Northeast California and Northwest Nevada: The Eagle Lake Field Office, the Alturas Field Office and the Surprise Field Office

AGENCY: Bureau of Land Management, Interior.

ACTION: Notice of availability.

SUMMARY: In accordance with the National Environmental Policy Act of 1969 and the Federal Land Policy and Management Act of 1976, the Bureau of Land Management (BLM) has prepared three Proposed Resource Management Plans/Final Environmental Impact Statements (PRMPs/FEISs) for public lands managed by the Eagle Lake Field Office, Susanville, California; the Alturas Field Office, Alturas, California; and the Surprise Field Office, Cedarville, California. These plans are now available for public review.

DATES: BLM planning regulations (43 CFR 1610.5-2) state that any person who participated in the planning process, and has an interest which is or may be adversely affected, may protest. The protest must be filed within 30 days of the date that the Environmental Protection Agency publishes its Notice of Availability in the Federal Register. Instructions for filing protests are described in the front cover of the Alturas, Eagle Lake, and Surprise PRMPs/FEISs and in the Supplementary Information section of this notice.

FOR FURTHER INFORMATION, CONTACT: Jeff Fontana, Public Affairs Officer, Bureau of Land Management, 2950 Riverside Dr., Susanville, CA 96130, (503) 252-5332.

SUPPLEMENTARY INFORMATION: Copies of the Alturas, Eagle Lake, and Surprise PRMPs/FEISs have been sent to affected Federal, State, and local government agencies and to interested parties, and are available for public inspection at the BLM's Alturas Field Office, 708 West 12th Street, Alturas, California; the Eagle Lake Field Office, 2950 Riverside Drive, Susanville, California; or the Surprise Field Office, 602 Cressler Street, Cedarville, California. Interested persons may also review the PRMPs/FEISs on the Internet at http://www.blm.gov/ca/pa/planning/landuseplanning.html.

Comments on the Draft RMPs/EISs received from the public were incorporated into the PRMPs/FEISs. Public comments resulted in the addition of clarifying text, but did not significantly change proposed land use decisions.

Instructions for filing a protest with the Director of the BLM regarding the PRMPs/EISs may be found at 43 CFR 1610.5-2. A protest may only raise those issues which were submitted for the record during the planning process. E-mail and faxed protests will not be accepted as valid protests unless the protesting party also provides the original letter by either regular or overnight mail postmarked by the close of the protest period. Under these conditions, BLM will consider the e-mail or faxed protest as an advance copy and it will receive full consideration. If you wish to provide BLM with such advance notification, please direct faxed protests to the attention of the BLM protest coordinator at 202-452-5112, and e-mails to Brenda_Hudgens-Williams@blm.gov.

Please direct the follow-up letter to the appropriate address provided below.

The protest must contain:

a. The name, mailing address, telephone number, and interest of the person filing the protest.

b. A statement of the part or parts of the plan and the issue or issues being protested.

c. A copy of all documents addressing the issue(s) that the protesting party submitted during the planning process or a statement of the date they were discussed for the record.

d. A concise statement explaining why the protestor believes the State Director's decision is wrong.

All protests must be in writing and mailed to one of the following addresses:

Regular Mail: Director (210), Attention: Brenda Williams, P.O. Box 66538, Washington, DC 20035.

Overnight Mail: Director (210), Attention: Brenda Williams, 1620 L Street, NW., Suite 1075, Washington, DC 20036.

Individual respondents may request confidentiality. If you wish to withhold your name and/or street address from public review or from disclosure under the Freedom of Information Act, you must state this prominently at the beginning of your protest. Such requests will be honored to the extent allowed by law. All submissions from organizations and businesses, and from individuals identifying themselves as representatives or officials of organizations or businesses, will be available for public inspection in their entirety.

The Director will promptly render a decision on the protest. The decision will be in writing and will be sent to the protesting party by certified mail, return receipt requested. The decision of the Director is the final decision of the Department of the Interior.

Dated: November 6, 2006.
Dayne Barron,
Eagle Lake Field Office Manager.

Editorial Note: This document was received at the Office of the Federal Register June 12, 2007.

[FR Doc. E7-11582 Filed 6-14-07; 8:45 am]

BILLING CODE 4310-40-P